DEPARTMENT OF THE INTERIOR

National Park Service

[NPS-WASO-NAGPRA-NPS0037008; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology (PMAE) has completed an inventory of human remains and has determined that there is a cultural affiliation between the human remains and Indian Tribes or Native Hawaiian organizations in this notice. The human remains were removed from Santa Barbara and Los Angeles Counties, CA.

DATES: Repatriation of the human remains in this notice may occur on or after January 4, 2024.

ADDRESSES: Patricia Capone, PMAE, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the determinations in this notice, including the results of consultation, can be found in the inventory or related records held by the PMAE.

Description

Human remains representing, at minimum, 25 individuals were removed from the Channel Islands, CA. In 1875, Paul Schumacher led a joint expedition on behalf of PMAE and the Smithsonian Institution to what he referred to as the Santa Barbara Islands, which are today known as the Channel Islands. During this expedition, he removed human remains from San Miguel Island (Santa Barbara County), Santa Cruz Island (Santa Barbara County), San Nicolas Island (Ventura County), and Santa Catalina Island (Los Angeles County). The Smithsonian Institution received the majority of those human remains. One hundred crania removed from San Miguel Island and Santa Cruz Island, and 25 mandibles identified as coming from the Santa Barbara Islands were sent to PMAE. Based on PMAE having received human remains that came from San Miguel Island and Santa Cruz Island, the mandibles most likely came from one or both of those islands, too. No known associated funerary objects are present.

Human remains, representing at minimum, one individual were removed from Santa Barbra County, California. In 1934, PMAE received these human remains from the Gila Pueblo Foundation, which identified them as coming from Hope Ranch in Santa Barbara County, CA. No known associated funerary objects are present.

Human remains, representing at minimum one individual, were removed from Los Angeles County, CA. In 1939, Isaac Richardson donated to the PMAE the remains of an individual that were recovered from Los Angeles County, CA. The individual was unearthed by a steam shovel in Los Flores Canyon, five miles from Santa Monica on Roosevelt Highway. No known associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of evidence were used to reasonably trace the relationship: oral traditional, geographical, and biological.

Determinations

Pursuant to NAGPRA and its implementing regulations, and after consultation with the appropriate Indian Tribes and Native Hawaiian organizations, the PMAE has determined that:

• The human remains described in this notice represent the physical remains of 27 individuals of Native American ancestry.

• There is a relationship of shared group identity that can be reasonably traced between the human remains described in this notice and the Santa Ynez Band of Chumash Mission Indians of the Santa Ynez Reservation, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after January 4, 2024. If competing requests for repatriation are received, the PMAE must determine the most appropriate requestor prior to repatriation. Requests for joint repatriation of the human remains are considered a single request and not competing requests. The PMAE is responsible for sending a copy of this notice to the Indian Tribe identified in this notice.

Authority: Native American Graves Protection and Repatriation Act, 25 U.S.C. 3003, and the implementing regulations, 43 CFR 10.9, 10.10, and 10.14.

Dated: November 28, 2023.
Melanie O'Brien,
Manager, National NAGPRA Program.

[FR Doc. 2023-26612 Filed 12-4-23; 8:45 am]

BILLING CODE 4312-52-P